DEPARTMENT OF VETERANS AFFAIRS

38 CFR Part 3

RIN 2900-AK21

Definition of Psychosis for Certain VA Purposes

AGENCY: Department of Veterans Affairs.

ACTION: Proposed rule.

SUMMARY: This document proposes to amend the Department of Veterans Affairs (VA) adjudication regulations to define the term “psychosis.” The term is used but not defined in certain statutes that provide presumptive service connection for compensation or health care purposes. The intended effect of this proposed amendment is consistent application of these statutory provisions.

DATES: Comments must be received on or before December 10, 2002.

ADDRESSES: Mail or hand-deliver written comments to: Director, Office of Regulations Management (02D), Department of Veterans Affairs, 810 Vermont Ave., NW, Room 1154, Washington, DC 20420; or fax comments to (202) 273-9289; or e-mail comments to OGCRegulations@mail.va.gov. Comments should indicate that they are submitted in response to “RIN 2900-AK21.” All comments received will be available for public inspection in the Office of Regulations Management, Room 1158, between the hours of 8:00 a.m. and 4:30 p.m., Monday through Friday (except holidays).

FOR FURTHER INFORMATION CONTACT: Caroll McBrine, M.D., Consultant, Regulations Staff (211A), Compensation and Pension Service, Veterans Benefits Administration, 810 Vermont Avenue, NW, Washington, DC 20420, telephone (202) 273-7284.

SUPPLEMENTARY INFORMATION:

Statutory and Regulatory Provisions

There are three sections in title 38, United States Code, that refer to psychosis in veterans and are pertinent to this regulation.

Section 1112(a)(1) of title 38, United States Code, presumes that certain chronic diseases that become manifest to a compensable degree within one year of a veteran's separation from active service were incurred or aggravated during that service. The term “chronic disease,” as defined at 38 U.S.C. 1101(3), includes “psychoses.” Section 3.309(a) of title 38, Code of Federal Regulations, implements 38 U.S.C. 1112(a)(1) and 1101(3).

Section 1112(b)(8) of title 38, United States Code, presumes that a “psychosis” that becomes manifest to a compensable degree at any time after service in a former prisoner-of-war was incurred or aggravated during that service. Section 3.309(c) of title 38, Code of Federal Regulations, implements this statutory provision.

Section 1702 of title 38, United States Code, presumes that “active psychosis” that develops in certain wartime veterans within two years of separation from active service was incurred during active service. This presumption is only for purposes of hospital, nursing home, domiciliary, and medical care.

None of these statutory or regulatory provisions defines the term “psychosis” or specifies which mental disorders are included in that category. In addition, the legislative histories of the relevant statutory provisions provide no guidance with regard to interpreting these terms.

Medical Interpretation

VA's Schedule for Rating Disabilities requires that mental disorders be diagnosed according to the diagnostic criteria of the American Psychiatric Association's Diagnostic and Statistical Manual of Mental Disorders (APA Manual), Fourth Edition (DSM-IV). Although the term “psychosis” continues to be widely used, it has not served as an organizing principle in the APA Manual since 1980 when DSM-III was published. DSM-IV does not have a “psychosis” category of mental disorders.

Appendix C of DSM-IV, at page 770, states that the term “psychotic” has historically had a number of definitions, “none of which has achieved universal acceptance.” It therefore appears that the term “psychosis,” and its plural form “psychoses,” have no commonly accepted meaning.

Proposed Definition

DSM-IV, Appendix A, pages 689 and 694-695, in addressing differential diagnoses of psychotic disorders, generally includes mental disorders in which at least one of the following psychotic symptoms is a defining feature: delusions; hallucinations; disorganized speech; or grossly disorganized behavior. In our judgment, these defining features are reasonable and appropriate for VA purposes.

According to DSM-IV, pages 19 and 694-695, the following mental disorders contain at least one of the above-mentioned DSM-IV, Appendix A, psychotic symptoms: psychotic disorder due to a general medical condition; substance-induced psychotic disorder; schizophrenia; schizophreniform disorder; schizoaffective disorder; mood disorder with psychotic features; delusional disorder; psychotic disorder not otherwise specified; brief psychotic disorder; and shared psychotic disorder. If one of these conditions is diagnosed in a veteran, all other regulations involved in determining entitlement to service connection must be considered.

We propose to add new § 3.384 to title 38, Code of Federal Regulations, to state that for purposes of 38 CFR part 3, those conditions are defined as psychoses.

Unfunded Mandates

The Unfunded Mandates Reform Act requires, at 2 U.S.C. 1532, that agencies prepare an assessment of anticipated costs and benefits before developing any rule that may result in an expenditure by State, local, or tribal governments, in the aggregate, or by the private sector of $100 million or more in any given year. This rule would have no consequential effect on State, local, or tribal governments.

Paperwork Reduction Act

This document contains no provisions constituting a collection of information under the Paperwork Reduction Act (44 U.S.C. 3501-3520).

Regulatory Flexibility Act

The Secretary hereby certifies that this regulatory amendment will not have a significant economic impact on a substantial number of small entities as they are defined in the Regulatory Flexibility Act, 5 U.S.C. 601-612. The reason for this certification is that this amendment would not directly affect any small entities. Only VA beneficiaries could be directly affected. Therefore, pursuant to 5 U.S.C. 605(b), this amendment is exempt from the initial and final regulatory flexibility analysis requirements of sections 603 and 604.

Catalog of Federal Domestic Assistance Program Numbers

The Catalog of Federal Domestic Assistance program number is 64.109.

List of Subjects in 38 CFR Part 3

Administrative practice and procedure, Claims, Disability benefits, Health care, Pensions, Veterans, Vietnam.

Approved: October 4, 2002.
Anthony J. Principi,
Secretary of Veterans Affairs.

For the reasons set forth in the preamble, 38 CFR part 3 is proposed to be amended as follows:

PART 3—ADJUDICATION

Subpart A—Pension, Compensation, and Dependency and Indemnity Compensation

1. The authority citation for part 3, subpart A continues to read as follows:

Authority: 38 U.S.C. 501(a), unless otherwise noted.

2. Section 3.384 is added under the undesignated center heading “Rating Considerations Relative to Specific Diseases” to read as follows:

§ 3.384 Psychosis.

For purposes of this part, the following conditions are considered psychoses:

(a) Psychotic disorder due to a general medical condition;

(b) Substance-induced psychotic disorder;

(c) Schizophrenia;

(d) Schizophreniform disorder;

(e) Schizoaffective disorder;

(f) Mood disorder with psychotic features;

(g) Delusional disorder;

(h) Psychotic disorder not otherwise specified;

(i) Brief psychotic disorder; and

(j) Shared psychotic disorder.

(Authority: 38 U.S.C. 501(a))

[FR Doc. 02-25995 Filed 10-10-02; 8:45 am]

BILLING CODE 8320-01-P